DEPARTMENT OF COMMERCE

National Oceanic and Atmospheric Administration

Notice of Intent To Conduct Scoping in Preparation of the National Coral Reef Resilience Strategy for the Coral Reef Conservation Program

AGENCY: National Ocean Service, National Oceanic and Atmospheric Administration (NOAA), U.S. Department of Commerce.

ACTION: Notice of intent; announcement of public scoping period; request for written comments.

SUMMARY: NOAA announces its intention to prepare a National Coral Reef Resilience Strategy (National Strategy) in accordance with the Coral Reef Conservation Act of 2000 (CRCA), as reauthorized and amended by the James M. Inhofe National Defense Authorization Act for Fiscal Year 2023. NOAA administers the Coral Reef Conservation Program (CRCP), which is implemented in the coastal areas and marine waters of Florida, Puerto Rico, U.S. Virgin Islands, Gulf of Mexico, Hawaii, Guam, the Commonwealth of the Northern Mariana Islands, American Samoa, the U.S. Pacific Remote Island Area, and targeted international regions including the wider Caribbean, the Coral Triangle, the South Pacific, and Micronesia. Publication of this document begins the official scoping period to help identify content for specific elements of the National Strategy. The intended effect of this notice is to provide the public with background on the scoping, seek specific input, and provide a general opportunity for comment the agency can consider while developing the National Strategy.

DATES: NOAA will consider all relevant written comments received by May 8, 2023.

ADDRESSES: Comments may be submitted by either of the following methods:

• Federal eRulemaking Portal: Go to http://www.regulations.gov/NOAA-NOS-2023-0043. Click the “Comment Now!” icon, complete the required fields, and enter or attach your comments.

• Email: Dr. Harriet L. Nash, Deputy Director, Coral Reef Conservation Program, harriet.nash@noaa.gov. Include “2023 Strategy Scoping” in the subject line of the message.

FOR FURTHER INFORMATION CONTACT: Dr. Harriet L. Nash of NOAA's Coral Reef Conservation Program, by email at harriet.nash@noaa.gov or phone at 240-410-3535.

SUPPLEMENTARY INFORMATION:

Background

NOAA announces its intention to prepare a National Strategy in accordance with the Coral Reef Conservation Act of 2000, as reauthorized and amended by the James M. Inhofe National Defense Authorization Act for Fiscal Year 2023 (Pub. L. 117-263, December 23, 2022, 136 Stat 2395; reauthorized CRCA). NOAA is preparing the National Strategy to support coral reef conservation and restoration activities throughout the United States, South Atlantic Ocean, Gulf of Mexico, and Pacific Island Regions, and priority international areas (i.e., wider Caribbean, Coral Triangle, South Pacific, and Micronesia). After final publication, the National Strategy will replace CRCP's current Strategic Plan (2018). The National Strategy will contain several elements, many of which exist in the current Strategic Plan (https://repository.library.noaa.gov/view/noaa/19419/noaa_19419_DS1.pdf), that will be developed in consultation with the Secretary of the Interior, the U.S. Coral Reef Task Force, covered States, and covered Native entities, as well as the Secretary of Defense; by engagement with stakeholders; and through public review and comment.

Pursuant to Section 204(b) of the reauthorized CRCA, the required elements of the National Strategy are:

• A discussion addressing:

○ continuing and emerging threats to the resilience of U.S. coral reef ecosystems;

○ remaining gaps in coral reef ecosystem research, monitoring, and assessment;

○ the status of management cooperation and integration among Federal reef managers and covered reef managers;

○ the status of efforts to manage and disseminate critical information, and enhance interjurisdictional data sharing, related to research, reports, data sets, and maps;

○ areas of special focus, which may include:

improving natural coral recruitment;

preventing avoidable losses of corals and their habitat;

enhancing the resilience of coral populations;

supporting a resilience-based management approach;

developing, coordinating, and implementing watershed management plans;

building and sustaining watershed management capacity at the local level;

providing data essential for coral reef fisheries management;

building capacity for coral reef fisheries management;

increasing understanding of coral reef ecosystem services;

educating the public on the importance of coral reefs, threats, and solutions; and

evaluating intervention efficiency;

○ the status of conservation efforts, including the use of marine protected areas to serve as replenishment zones developed consistent with local practices and traditions and in cooperation with, and with respect for the scientific, technical, and management and expertise and responsibilities of, covered reef managers;

○ science-based adaptive management and restoration efforts; and

○ management of coral reef emergencies and disasters.

• A statement of national goals and objectives designed to guide:

○ future Federal coral reef management and restoration activities authorized under Section 203 of the reauthorized CRCA;

○ conservation and restoration priorities for grants awarded under Section 211 of the reauthorized CRCA; and

○ research priorities for the reef research coordination institutes designated under Section 213(b)(1)(B).

• A designation of priority areas for conservation, and priority areas for restoration, to support the review and approval of grants under Section 211(e) of the reauthorized CRCA.

• Technical assistance in the form of general templates for use by covered reef managers and Federal reef managers to guide the development of coral reef action plans under Section 205 of the reauthorized CRCA, including guidance on the best science-based practices to respond to coral reef emergencies that can be included in coral reef action plans.

Public Comment

NOAA begins this National Strategy development process by soliciting input from the public and interested parties, including underrepresented groups, regarding information to be included in any of the elements stated above and any other pertinent information. Specifically, this scoping process is intended to accomplish the following objectives:

1. Invite affected Federal, State, and local agencies, and interested persons to participate in the scoping process for development of the National Strategy.

2. Initiate consultations with the Secretary of the Interior, the U.S. Coral Reef Task Force, covered states, covered Native entities, and the Secretary of Defense, as appropriate, pursuant to the reauthorized CRCA.

3. Engage stakeholders, including covered states, coral reef stewardship partnerships, reef research coordination institutes, coral reef research centers, and recipients of grants awarded pursuant to Section 211 of the reauthorized CRCA.

4. Identify information that may be helpful in developing the elements listed above and in Section 204 of the reauthorized CRCA.

The official scoping period is from April 6, 2023 to May 8, 2023. Please visit the CRCP web page for additional information regarding the program: https://coralreef.noaa.gov/.

The preparation of the National Strategy for the CRCP will be conducted under the authority and in accordance with the requirements of the reauthorized CRCA.

Authority: Public Law 117-263, 136 Stat 2395.

Nicole R. LeBoeuf,
Assistant Administrator for Ocean Services and Coastal Zone Management, National Ocean Service, National Oceanic and Atmospheric Administration.

[FR Doc. 2023-07195 Filed 4-5-23; 8:45 am]

BILLING CODE 3510-JE-P